DEPARTMENT OF TRANSPORTATION

Surface Transportation Board

[Docket No. FD 35757]

Mississippi Central Railroad Co.—Lease and Change in Operators Exemption—Line of Mississippi-Alabama Railroad Authority

Mississippi Central Railroad Co. (MSCI), a Class III rail carrier, has filed a verified notice of exemption under 49 CFR 1150.41 to lease and operate a 41.5-mile line of railroad between milepost IC-529.5 (Corinth, Miss.) and milepost IC-571.0 (Red Bay, Ala.), in Alcorn, Prentiss, Tishomingo, and Itawamba Counties, Miss., and Franklin County, Ala. (the Line), owned by the Mississippi-Alabama Railroad Authority (MARA). MSCI also proposes to acquire approximately 2.2 miles of incidental trackage rights for interchange over Norfolk Southern Railroad Company's (NS) line between milepost IC-529.5 and milepost IC-527.3 (at NS's Corinth yard).

According to MSCI, it has reached agreement with both Redmont Railway Company, Inc. (RRC), the current operator of the Line,¹ and MARA, the owner of the Line, to permit MSCI to acquire RRC's leasehold interest in the Line, and for MSCI to lease and operate the Line between Corinth and Red Bay. MSCI states that RRC will also assign its incidental trackage rights between milepost IC-527.3 and milepost IC-529.5. MSCI states that, pursuant to its agreements with RRC and MARA, MSCI will lease, operate, maintain, and perform all common carrier services on the Line.² Further, MSCI states that it will interchange with NS and Kansas City Southern Railroad Company at Corinth.

¹ RRC obtained Board authority to lease and operate the Line in 1995. See Redmont Ry.—Lease & Operation Exemption—Certain Lines of Miss.-Ala. R.R. Auth., FD 32616 (STB served Mar. 1, 1995).

² Under 49 CFR 1150.42(b), a change in operators requires that notice be given to shippers. MSCI certifies that it served a copy of its verified notice on Sunshine Mills, Inc., the only shipper known to have shipped over the Line in the last two years.

MSCI certifies that its projected annual revenues as a result of this transaction will not exceed those that would qualify it as a Class III rail carrier and further certifies that the projected annual revenue from the Line, together with MSCI's projected annual revenue, will not exceed $5 million. MSCI states that the proposed lease and operation of the Line does not involve a provision or agreement that would limit future interchange with a third-party connecting carrier.

MSCI states that it intends to consummate the transaction on or about September 12, 2013, and that operations under this exemption will begin thereafter. However, at the request of the Board, MSCI supplemented and clarified its verified notice of exemption on August 22, 2013, and that date therefore is considered the filing date of MSCI's verified notice of exemption. As a result, the transaction may not be consummated until September 21, 2013 (30 days after the verified notice was filed).

If the notice contains false or misleading information, the exemption is void ab initio. Petitions to revoke the exemption under 49 U.S.C. 10502(d) may be filed at any time. The filing of a petition to revoke will not automatically stay the effectiveness of the exemption. Petitions for stay must be filed no later than September 13, 2013 (at least seven days before the exemption becomes effective).

An original and 10 copies of all pleadings, referring to Docket No. FD 35757, must be filed with the Surface Transportation Board, 395 E Street SW., Washington, DC 20423-0001. In addition, one copy of each pleading must be served on Daniel A. LaKemper, General Counsel, Mississippi Central Railroad Co., 1318 S. Johanson Road, Peoria, IL 61607.

Board decisions and notices are available on our Web site at WWW.STB.DOT.GOV.

Decided: September 3, 2013.
By the Board,
Rachel D. Campbell,
Director, Office of Proceedings.
Raina S. White,
Clearance Clerk.

[FR Doc. 2013-21747 Filed 9-5-13; 8:45 am]

BILLING CODE 4915-01-P